INTERNATIONAL TRADE COMMISSION

[Investigation No. 337-TA-917]

Certain Silicon Tuners and Products Containing Same, Including Television Tuners; Commission Determination Not To Review an Initial Determination Terminating the Investigation as to the Remaining Respondents; Termination of the Investigation

AGENCY: U.S. International Trade Commission.

ACTION: Notice.

SUMMARY: Notice is hereby given that the U.S. International Trade Commission has determined not to review an initial determination (“ID”) (Order No. 6) of the presiding administrative law judge (“ALJ”) terminating the above-captioned investigation as to the remaining respondents Hauppauge Digital, Inc. and Hauppauge Computer Works, Inc., both of Hauppauge, New York; PCTV Systems S.a.r.l. of Braunschweig, Germany; and PCTV Systems S.a.r.l., Luxembourg of Thyes, Luxembourg (collectively, “Hauppauge Computer”), based on a settlement agreement. The Commission has terminated the investigation.

FOR FURTHER INFORMATION CONTACT: Clint Gerdine, Esq., Office of the General Counsel, U.S. International Trade Commission, 500 E Street SW., Washington, DC 20436, telephone (202) 708-2310. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on June 11, 2014, based on a complaint filed on behalf of Silicon Laboratories Inc. (“Silicon Labs”) of Austin, Texas. 79 FR 33595-96. The complaint alleges violations of section 337 of the Tariff Act of 1930, as amended, 19 U.S.C. 1337, in the importation into the United States, the sale for importation, and the sale within the United States after importation of certain silicon tuners and products containing same, including television tuners, by reason of infringement of certain claims of U.S. Patent Nos. 6,137,372 and 6,233,441. The complaint further alleges the existence of a domestic industry. The Commission's notice of investigation named as respondents Hauppauge Computer and Cresta Technology Corporation (“CrestaTech”) of Santa Clara, California. See 79 FR 33596. The Office of Unfair Import Investigations (“OUII”) is also a party to the investigation. Id.

On July 24, 2014, the Commission issued notice of its determination not to review the ALJ's ID (Order No. 3) terminating the investigation as to CrestaTech based on a consent order stipulation, and issued the consent order. On August 6, 2014, complainant and Hauppauge Computer jointly moved for termination of the investigation as to the remaining respondents based on a settlement agreement. OUII supported the motion.

The ALJ issued the subject ID on August 8, 2014, granting the joint motion for termination of the investigation. He found that the motion for termination satisfies Commission rules 210.21(a)(2), (b)(1). The ALJ also found that there is no indication that termination of the investigation in view of the settlement agreement would have an adverse impact on the public interest. No party petitioned for review of the ID. The Commission has determined not to review the ID and has terminated the investigation.

The authority for the Commission's determination is contained in section 337 of the Tariff Act of 1930, as amended, 19 U.S.C. 1337, and in Part 210 of the Commission's Rules of Practice and Procedure, 19 CFR part 210.

By order of the Commission.
Issued: September 5, 2014.
Lisa R. Barton,
Secretary to the Commission.

[FR Doc. 2014-21581 Filed 9-10-14; 8:45 am]

BILLING CODE 7020-02-P